ENVIRONMENTAL PROTECTION AGENCY

[FRL-6605-1]

Agency Information Collection Activities: Submission for OMB Review; Comment Request, National Emissions Standards for Hazardous Air Pollutants (NESHAP)—Phosphoric Acid Manufacturing and Phosphate Fertilizers Production

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NESHAP—Phosphoric Acid Manufacturing and Phosphate Fertilizers Production, 40 CFR part 63, subparts AA and BB, OMB No. 2060-0361, expiration 6/30/00. The ICR describes the nature of the information collection and its expected burden and cost; where appropriate, it includes the actual data collection instrument.

DATES: Comments must be submitted on or before June 12, 2000.

FOR FURTHER INFORMATION CONTACT: For a copy of the ICR contact Sandy Farmer at EPA by phone at (202) 260-2740, by E-Mail at Farmer.Sandy@epamail.epa.gov or download off the Internet at http://www.epa.gov/icr and refer to EPA ICR No. 1790.02. For technical questions about the ICR contact Stephen Howie, at 202-564-4146.

SUPPLEMENTARY INFORMATION: Title: NESHAP—Phosphoric Acid Manufacturing and Phosphate Fertilizers Production OMB No. 2060-0361, ICR No. 1790.02, expiration 6/30/00. This is a request for extension of a currently approved collection.

Abstract: Owners/operators of affected phosphoric acid manufacturing and phosphate fertilizer production must submit one-time notifications (where applicable) and annual reports on performance test results. Semiannual reports for periods of operation during which the monitoring parameter boundaries established during the initial compliance test are exceeded (or reports certifying that no exceedances have occurred) also are required.

Subparts AA and BB require respondents to install monitoring devices to measure the pressure drop and liquid flow rate for wet scrubbers. These operating parameters are permitted to vary within ranges determined concurrently with performance tests. Exceedances of the operating ranges are considered violations of the site-specific operating limits.

The standards require sources to determine and record the amount of phosphatic feed material processed or stored on a daily basis. Respondents also maintain records of specific information needed to determine that the standards are being achieved and maintained.

An Agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on January 21, 2000; no comments were received.

Burden Statement: The annual public reporting and recordkeeping burden for this collection of information is estimated to average 21.5 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Phosphoric Acid Manufacturing and Phosphate Fertilizers Production Plants.

Estimated Number of Respondents: 15.

Frequency of Response: Initial, Semi-Annually.

Estimated Number of Responses: 193.

Estimated Total Annual Hour Burden: 4,143.

Estimated Total Annualized Capital, O&M Cost Burden: $ 66,000.

Send comments on the Agency's need for this information, the accuracy of the provided burden estimates, and any suggested methods for minimizing respondent burden, including through the use of automated collection techniques to the following addresses. Please refer to EPA ICR No. 1790.02 and OMB Control No. 2060-0361 in any correspondence.

Ms. Sandy Farmer, U.S. Environmental Protection Agency, Office of Environmental Information, Collection Strategies Division (2822), 1200 Pennsylvania Ave., NW, Washington, DC 20460;

and

Office of Information and Regulatory Affairs, Office of Management and Budget, Attention: Desk Officer for EPA, 725 17th Street, NW, Washington, DC 20503.

Dated: May 2, 2000.
Oscar Morales,
Director, Collection Strategies Division.

[FR Doc. 00-11816 Filed 5-10-00; 8:45 am]

BILLING CODE 6560-50-P